DEPARTMENT OF HOUSING AND URBAN DEVELOPMENT

[Docket No. FR-4950-FA-16]

Announcement of Funding Awards for the Indian Community Development Block Grant Program for Fiscal Year 2005

AGENCY: Office of Native American Programs, Office of Public and Indian Housing, HUD.

ACTION: Announcement of funding awards.

SUMMARY: In accordance with Section 102(a)(4)(C) of the Department of Housing and Urban Development Reform Act of 1989, this announcement notifies the public of funding decisions made by the Department in a competition for funding under the Fiscal Year (FY) 2005 Notice of Funding Availability (NOFA) for the Indian Community Development Block Grant (ICDBG) Program. This announcement contains the consolidated names and addresses of this year's award recipients under the ICDBG.

FOR FURTHER INFORMATION CONTACT: For questions concerning the Indian Community Development Block Grant Program awards, contact the Area Office of Native American Programs serving your area, or Rochelle McKinney, Office of Native Programs, Washington, DC Office, 451 Seventh Street, SW., Room 4126, Washington, DC 20410, telephone (202) 401-7914. Hearing- or speech-impaired individuals may access this number via TTY by calling the toll-free Federal Information Relay Service at (800) 877-8339.

SUPPLEMENTARY INFORMATION: This program provides grants to Indian tribes and Alaska Native Villages to develop viable Indian and Alaska Native communities, including the creation of decent housing, suitable living environments, and economic opportunities primarily for persons with low and moderate incomes as defined in 24 CFR 1003.4.

The FY2005 awards announced in this Notice were selected for funding in a competition announced in a NOFA published in the Federal Register on March 21, 2005 (70 FR 13654). Applications were scored and selected for funding based on the selection criteria in that Notice and Area Office of Native American Programs (ONAP) geographic jurisdictional competitions.

The amount appropriated in FY2005 to fund the ICDBG was $68,427,300. Four million of this amount was retained to fund imminent threat grants in FY2005. In addition, a total of $2,079,417 in carryover funds from prior years was also available. The allocations for the Area ONAP geographic jurisdictions, including carryover, are as follows:

Eastern/Woodlands | $ 7,918,000
Southern Plains | 14,200,775
Northern Plains | 9,210,998
Southwest | 24,225,592
Northwest | 3,920,870
Alaska | 7,030,482
Total | $66,506,717

In accordance with Section 102(a)(4)(C) of the Department of Housing and Urban Development Reform Act of 1989 (103 Stat. 1987, 42 U.S.C. 3545), the Department is publishing the names and addresses of awardees, as well as the amounts of the 91 awards made under the various regional competitions in Appendix A to this document.

Dated: July 17, 2006.
Orlando J. Cabrera,
Assistant Secretary for Public and Indian Housing.

Appendix A-Indian Community Development Block Grant Awards for Fiscal Year 2005

Cherokee Nation

Chad Smith

Principal Chief

PO Box 948

Tahlequah, OK 74465

Phone: (918) 456-0671

Grant Award: $800,000

Activity: Microenterprise Provide 61 Loans/Create 70 Full Time Jobs

Chickasaw Nation

Bill Anoatubby

Governor

P.O. Box 1548

Ada, OK 74821

Phone: ( 580) 436-2603

Grant Award: $800,000

Activity: Public Facility

Wellness Center

Choctaw Nation

Gregory E. Pyle

Chief

P.O. Drawer 1210

Durant, OK 74702

Phone: (580) 924-8280

Grant Award: $800,000

Activity: Public Facility Social Services Complex

Citizen Potawatomi Nation

John A. Barrett

Chairperson

1601 South Gordon Cooper Drive

Shawnee, OK 74801

Phone: (405) 275-3121

Grant: $800,000

Activity: Public Facility

Soaring Eagles Firelodge

Eastern Shawnee Tribe

Charles Enyart

Chief

P.O. Box 350

Seneca, MO 64865

Phone: (918) 666-2435

Grant: $800,000

Activity: Public Facility

Community Services Building

Kaw Nation

Guy Munroe

Chairperson

P.O. Box 50

Kaw City, OK 74641

Phone: (580) 269-2552

Grant: $617,745

Activity: Public Facility

Braman Water Project

Miami Tribe

Floyd Leonard

Chief

P.O. Box 1326

Miami, OK 74355

Phone: (918) 542-1445

Grant: $800,000

Activity: Public Facility Assisted Living Center

Muscogee (Creek)

Nation Principal

A. D. Ellis

Chief

P.O. Box 580

Okmulgee, OK 74447

Phone: (918) 756-8700

Grant: $800,000

Activity: Public Facility Multi Purpose Center

Osage Tribe

Jim Gray

Principal Chief

627 Grandview Avenue

Pawhuska, OK 74056

Phone: (918) 287-1128

Grant: $800,000

Activity: Public Facility Health Center

Otoe-Missouria Tribe

C. Michael Harwell

Tribal Chairman

8151 Highway 177

Red Rock, OK 74651-0348

Phone: (580) 723-4466

Grant: $800,000

Activity: Public Facility Community Services Building

Pawnee Nation

George Howell

President

P.O. Box 470

Pawnee, OK 74058

Phone: (918) 762-3621

Grant: $800,000

Activity: Public Facility

Rehab Historic Building

Peoria Tribe

John Froman

Chief

P.O. Box 1527

Miami, OK 74355

Phone: (918) 540-2535

Grant: $800,000

Activity: Public Facility Tribal Programs Building

Ponca Tribe

Dwight BuffaloHead

Chairperson

20 White Eagle Dr.

Ponca City, OK 74601

Phone: (580) 762-8104

Grant: $793,448

Activity: Housing Rehabilitation Rehab 18 Homes

Seneca-Cayuga Tribe

Paul Spicer

Chief

P.O. Box 1283

Miami, OK 74355

Phone: (918) 542-6609

Grant: $800,000

Activity: Public Facility Utility/Public Works Facility

Tonkawa Tribe

Carl Martin

President

1 Rush Buffalo Road

Tonkawa, OK 74653

Phone: (580) 628-2561

Grant: $794,882

Activity: Public Facility Wellness Center

United Keetoowah

Band of Cherokee Indians

George Wickliffe

Chief

P.O. Box 746

Tahlequah, OK 74465-0746

Phone: (918) 456-5491

Grant: $800,000

Activity: Public Facility Elderly Center

Wichita & Affiliated Tribes

Gary McAdams

President

P.O. Box 729

Anadarko, OK 73005

Phone:(405) 247-2425

Grant: $800,000

Activity: Public Facility Food Distribution Center

Wyandotte Tribe

Leaford Bearskin

Chief

P.O. Box 250

Wyandotte, OK 74370

Phone: (918) 678-2297

Grant: $794,700

Activity: Public Facility Childcare Facility Improvements

Coquille Indian Tribe

Christopher K. Tanner

Grant Writer

P.O. Box 783

North Bend, OR 97459

Phone: (541) 756-0904

Grant: $421,354

Activity: Public Facility—Infrastructure Broadband Technology

Squaxin Island Tribe

Raymond Peters

Executive Director

10 SE Squaxin Lane

Shelton, WA 98584

Phone: (360) 426-9781

Grant: $500,000

Activity: Public Facility Counseling and Cultural Center

Upper Skagit Tribe

Marilyn M. Scott

Chairperson

35944 Community Plaza Way

Sedro Woolley, WA 98284

Phone: (360) 854-7000

Grant: $500,000

Activity: Public Facility Infrastructure and Supplemental Water Tower

Coeur d'Alene Tribe

Cielo I. Gibson

Executive Director

P.O. Box 408

Plummer, ID 83854

Phone: (208) 686-1927

Grant: $500,000

Activity: Housing Rehabilitation Rehab of 199 rental units

Nooksack Tribe

Narcisco Cunanan

Tribal Chairman

4979 Mt. Baker Highway

Deming, WA 98244

Phone: (360) 592-5176

Grant: $500,000

Activity: Public Facility-Systems Infrastructure water system septic

Jamestown S'Kallam Tribe

W. Ron Allen

Tribal Chairman

1033 Old Blyn Highway

Sequim, WA 98382

Phone: (360) 683-1109

Grant: $500,000

Activity: Public Facility Medical Center

Grand Ronde Tribe

Cheryle Ann Kennedy

Tribal Council Chairwoman

9615 Grand Ronde Road

Grand Ronde, OR 97347

Phone: (503) 879-2304

Grant: $500,000

Activity: Public Facility Recreation Facility

Confederated Tribes of

Siletz Indian of Oregon

Brenda Bremner

General Manager

291 SE Swan DriveSiletz, OR 97380

Phone: (541) 444-2532

Grant: $499,516

Activity: Public Facility Tribal Diabetes/Fitness Center

Ak-Chin Indian Community

Anita Avila

Contract and Grants Specialist

42507 W. Peters & Nall Rd.

Maricopa, AZ 85239

Phone: (520) 568-1064

Grant: $605,000

Activity: Public Facility Education Center

Bear River Band of

Rohnerville Rancheria

Bruce Merson

Housing Director

27 Bear River Drive

Loleta, CA 95551

Phone: (707) 733-1900

Grant: $605,000

Activity: Housing Construction Bassayo Village—Phase IV

Chemehuevi Indian Tribe

Bill Cox

Tribal Planner

P.O. Box 1976

Havasu Lake, CA 92363

Phone: (760) 858-4301

Grant: $605,000

Activity: Public Facility Family Service Center

Colorado River Residential

Management Corp.

Frederick Ench

Tribal Planner

Route 1, Box 23-B

Parker, AZ 85344

Phone: (928) 669-6409

Grant: $825,000

Activity: Juvenile Detention and Rehabilitation Center

Dry Creek Rancheria

Band of Pomo Indians

Jeanne Baker

Contract and Grants Manager

P.O. Box 607

Geyserville, CA 95441

Phone: (707) 473-2178

Grant: $605,000

Activity: Public Facilities Multi-Purpose Center

Gila River Pima-Maricopa Indian

Community

Gary Nelson

Project Manager

P.O. Box 97

Sacaton, AZ 85247

Phone: (520) 564-6080

Grant: $2,750,000

Activity: Public Facility Fire Station

Havasupai Indian Tribe

Thomas Siyuja

Chairman

P.O. Box 10

Supai, AZ 86435

Phone: (928) 448-2731

Grant: $605,000

Activity: Public Facility Community Plaza

Hoopa Valley Tribe

Marcellene Norton

Education Director

P.O. Box 1348

Hoopa, CA 95546

Phone: (530) 625-4413

Grant: $825,000

Activity: Public Facility Early Childhood Education Facility

Hopi Tribe

Belma Navakuku

Business Enterprise Development Manager

1 Main St., P.O. Box 123

Kykotsmovi, AZ 86039

Phone: (928) 934-3244

Grant: $1,285,000

Activity: Economic Development Travel Center

Hualapai Indian Tribe

Salena Siyuja

Grants Administrator

P.O. Box 179

Peach Springs, AZ 86434

Phone: (928) 769-2216

Grant: $825,000

Activity: Public Facility Tribal Cultural Center

MACT Health Board, Inc.

Patty Aycock

Administrative Manager

P.O. Box 2080

Tuolumne, CA 95379

Phone: (209) 928-4277

Grant: $1,810,000

Activity: Public Facility Indian Health Center

Navajo Nation

Chavez John

CDBG Program Supervisor

P.O. Box 2365

Window Rock, AZ 86515

Phone: (928) 871-6539

Grant: $5,415,591

Activity: Public Facility Improvement Power Line Extensions

North Fork Rancheria of

Pomo Indians

William Hussmann

Executive Director

P.O. Box 728

North Fork, CA 93643

Phone: (559) 887-7360

Grant: $564,302

Activity: Public Facility Youth Center

Pueblo of Nambe

Debbie Reynolds

Operations Director

Route 1, Box 117-BB

Santa Fe, NM 87506

Phone: (505) 455-0158

Grant: $573,860

Activity: Housing Rehabilitation Rehab 30 homes

Pueblo of Pojoaque

Alyn Martinez

Housing Director

Street 1, 16 Viarrial Street

Santa Fe, NM 87506

Phone: (505) 455-3383

Grant: $605,000

Activity: New Housing Construction Build 20 new units

Pueblo of San Felipe

Issac Perez

Housing Director

P.O. Box 4339

Pueblo of San Felipe, NM 87001

Phone: (505) 867-3381

Grant: $825,000

Activity: Housing Rehabilitation Rehab of 20 homes

Pueblo of San Ildefonso

Scott Beckmann

Development Director

Route 5, Box 315A

Santa Fe, NM 87501

Phone: (505) 455-7973

Grant: $605,000

Activity: Housing Rehabilitation Rehab of 28 homes

Pueblo of San Juan

Tomasita Duran

Executive Director

P.O. Box 1099

San Juan Pueblo, NM 87566

Phone: (505) 852-0189

Grant: $246,166

Activity: Housing Rehabilitation Rehab of 18 homes

Pueblo of Zuni

Andrew Othole

Director of Planning and Development

P.O. Box 339

Zuni, NM 87327

Phone: (505) 782-3054

Grant: $615,673

Activity: Public Facility Food Distribution Center

Reno-Sparks Indian Colony

Arlan Melendez

Chairman

98 Colony Road

Reno, NV 89502

Phone: (775) 329-2936

Grant: $605,000

Activity: Public Facility Health Center

San Carlos Apache Tribe

Charles Russell

Deputy Planning Director

P.O. Box 0

San Carlos, AZ 85550

Phone: (928) 475-2331

Grant: $400,000

Activity: Housing Rehabilitation Rehab of 20 units

Susanville Indian Rancheria

Stacy Dixon

Chairman

745 Joaquin Street

Susanville, CA 96130

Phone: (530) 257-6264

Grant: $580,000

Activity: Housing Construction 12 new units

Wahoe Tribe of

Nevada & California

Raymond Gonzales

Executive Director

919 Highway 395 South

Gardnerville, NV 89410

Phone: (775) 265-2410

Grant: $605,000

Activity: Public Facility Community Complex

Yerington Paiute Tribe

Lee Shaw

Development Coordinator

171 Campbell Lane

Yerington, NV 89447

Phone: (775) 463-2225

Grant: $605,000

Activity: Housing Rehabilitation Phase III

Yurok Tribe

Peggy O'Neill

Project Director

P.O. Box 1027

Klamath, CA 95548

Phone: (707) 482-1366

Grant: $605,000

Activity: Public Facility Fitness Center

Aroostook Micmacs

William Phillips

Tribal Chief

#7 Northern Road

Presque Isle, ME 04769

Phone: (508) 645-2711

Grant: $500,000

Activity: Housing Rehab Rehab 16 Units

Bay Mills Indian Community

Jeffrey D. Parker

President

Route 1

Brimley, MI 49715

Phone: (906) 248-5524

Grant: $500,000

Activity: Public Facility Community Center

Eastern Band of Cherokees

Michelle Hicks

Principal Chief

PO Box 455

Cherokee, NC 28719

Phone: (828) 497-7007

Grant: $500,000

Activity: Public Facility Community Facility

Grand Traverse Band of

Ottawa & Chippewa

Robert Kewaygoshkum

Chairman

2605 N West Bay Shore Rd.

Suttons Bay, MI 49682

Phone: (231) 271-3538

Grant: $500,000

Activity: Public Facility Tribal Museum and Cultural Center

Hannahville Indian Community

Kenneth Meshigaud

Chairperson

N14911 Hannahville B1 Rd.

Wilson, MI 49896

Phone: (906) 466-2342

Grant: $500,000

Activity: Public Facility Cultural Center

Ho-Chunk Nation

George Lewis

President

P.O. Box 667

Black River Falls, WI 54615

Phone: (715) 284-9343

Grant: $500,000

Activity: Public Facility Sewer Infrastructure

Keweenaw Bay Indian Community

Susan LaFernier

President

107 Beartown Rd.

Baraga, MI 49908

Phone: (906) 353-6623

Grant: $500,000

Activity: Public Facility Senior Center

Lac du Flambeau Band of Chippewa

Victoria A. Doud

Chairperson

P.O. Box 67

Lac du Flambeau, WI 54538

Phone: (715) 588-3303

Grant: $500,000

Activity: Public Facility Health Center

Leech Lake Band of Ojibwe

George Goggleye Jr.

Chairman

Route 3, Box 100

Cass Lake, MN 56633

Phone: (218) 335-8200

Grant: $500,000

Activity: Public Facility Rehab Community Center

Menominee Indian Tribe

Michael Chapman

Tribal Chairman

P.O. Box 910

Keshena, WI 54135

Phone: (715) 799-5114

Grant: $500,000

Activity: Housing Rehabilitation Rehab 57 Homes

Mille Lacs Band of Ojibwe

Melanie Benjamin

Chief Executive

43408 Odena Dr.

Onamia, MN 56459

Phone: (320) 532-4181

Grant: $318,000

Activity: Public Facility Rehab of 40 Homes

Narragansett Indian

Department of Housing

Matthew Thomas

Chief Sachem

PO Box 268

Charleston, RI 02813

Phone: (401) 364-1100

Grant: $500,000

Activity: Public Facility Health Center Expansion

Nottawaseppi Huron

Band of Potawatomi, INC.

Laura Spur

Chairperson

2221 1½ Mile Rd.

Fulton, MI 49052

Phone: (269) 869-8107

Grant: $500,000

Activity: Public Facility Health Center

Confederated Salish and

Kootenai Tribes

D. Fred Matt

Tribal Chairperson

P.O. Box 278

Pablo, MT 59855

Phone: (406) 675-4491

Grant: $828,287

Activity: Housing Rehabilitation Rehab of 23 Homes

Crow Tribe of Indians

Carl Venne

Tribal Chairperson

P.O. Box 159

Crow Agency, MT 59022

Phone: (406) 638-3717

Grant: $900,000

Activity: Housing Rehabilitation Rehab of 30 Homes

Ho-Chunk Community

Development Corporation

Judi Meyer-Ogden

Executive Director

P.O. Box 264

Walthill, NE 68067

Phone: (402) 846-5353

Grant: $900,000

Activity: Public Facility Swimming Pool

The Lakota Fund, Inc.

Dowell Caselli-Smith

Executive Director

P.O Box 340

Kyle, SD 57752

Phone: (605) 455-2500

Grant: $899,956

Activity: Micro-Enterprise Expansion of local Micro-Enterprises

Lower Brule Sioux Tribe

Michael B. Jandreau

Tribal Chairperson

P.O Box 183

Lower Brule, SD 57548

Phone: (605) 473-5561

Grant: $900,000

Activity: Housing Rehabilitation Rehab of 47 Homes

Paiute Indian Tribe of Utah

Lora E. Tom

Tribal Chairperson

440 North Paiute Drive

Cedar City, UT 84720

Phone: (435) 586-7388

Grant: $900,000

Activity: Public Facility Construction of Senior/Youth Activity Center

Santee Sioux Nation

Roger Trudell

Tribal Chairperson

108 Spirit Lake Avenue

Niobrara, NE 68760

Phone: (402) 857-2772

Grant: $672,711

Activity: Housing Rehabilitation Rehab of 73 Homes

Sisseton Wahpeton Oyate

Jerry Flute

Tribal Chairperson

P.O. Box 509

Agency Village, SD 57262

Phone: (605) 698-3911

Grant: $900,000

Activity: Public Facility Construction of Elderly Center

Spirit Lake Tribe

Myra Pearson

Tribal Chairperson

P.O. Box 359

Fort Totten, ND 58335

Phone: (701) 766-4131

Grant: $510,000

Activity: Housing Rehabilitation Rehab of 14 Homes

Turtle Mountain Band of

Chippewa Indians

Ken Davis

Tribal Chairperson

P.O. Box 900

Belcourt, ND 58316

Phone: (701) 477-2639

Grant: $900,000

Activity: Housing Rehabilitation Rehab of 15 Homes

Levelock Village Council

Howard Nelson

President

P.O. Box 70

Levelock, AK 99625

Phone: (907) 287-3000

Grant: $500,000

Activity: Housing Construction Construct 6 Single Family Homes

Venetie Village Council

Eddie Frank

1st Chief

P.O. Box 81119

Venetie, AK 99781

Phone: (907) 849-8212

Grant: $468,000

Activity: Housing Construction Construct 3 New Homes

Chilkoot Indian Association

Gregory Stuckey

Tribal Administrator

P.O. Box 490

Haines, AK 99827

Phone: (907) 766-2323

Grant: $500,000

Activity: Housing Rehabilitation Rehab 38 Homes

Pilot Point Tribal Council

Victor Seybert

President

P.O. Box 449

Pilot Point, AK 99649

Phone: (907) 797-2208

Grant: $500,000

Activity: Public Facility Health Clinic

Nondalton Tribal Council

Jak Hobson

President

P.O. Box 49

Nondalton, AK 99640

Phone: (907) 294-2234

Grant: $313,784

Activity: Public Facility Health Clinic

Arctic Village Council

Marjorie Gommill

1st Chief

P.O. Box 69

Arctic Village, AK 99722

Phone: (907) 587-5523

Grant: $400,000

Activity: Housing Construction Construct 4 New Homes

Gakona Village Council

Darin Gene

President

P.O. Box 102

Gakona Village, AK 99586

Phone: (907) 822-5777

Grant: $499,789

Activity: Public Facility Multi-Purpose Service Center

Native Village of Deering

Emerson Moto

President

P.O. Box 50089

Deering, AK 99736

Phone: (907) 363-2138

Grants: $500,000

Activity: Housing Rehabilitation Rehab of 15 to 20 Homes

Nanwalek IRA Council

Emilie Swenning

1st Chief

P.O. Box 8065

Nanwalek, AK 99603-6665

Phone: (907) 281-2274

Grant: $500,000

Activity: Public Facility New Health Services Center

Twin Hills Village Council

George Pleasant

President

P.O. Box TWA

Twin Hills, AK 99576-8996

Phone: (907) 525-4821

Grant: $276,000

Activity: Public Facility Health Clinic

Kipnuk Village Council

Charlie Paul

Chief

P.O. Box 57

Kipnuk, AK 99614-0057

Phone: (907) 896-5515

Grant: $198,215

Activity: Public Facility Health Clinic

Kotlik Traditional Council

Reynold Okitkun

President

P.O. Box 20210

Kotlik, AK 99620

Phone: (907) 899-4326

Grant: $198,215

Activity: Public Facility Health Clinic

Marshall Traditional Council

Lynn Chambers

Grant Writer

P.O. Box 110

Marshall, AK 99585

Phone: (907) 243-8212

Grant: $500,000

Activity: Public Facility Water/Sewer Expansion

Ohogamiut Traditional Council

Lynn Chambers

Grant Writer

P.O. Box 49

Marshall, AK 99585

Phone: (907) 243-8212

Grant: $500,000

Activity: Public Facility Water/Sewer Expansion

Sitka Tribe of Alaska

Lawrence Widmark

Chairman

465 Katlian Street

Sitka, AK 99835

Phone: (907) 747-3207

Grant: $480,000

Activity: Land Acquisition to Construct New Housing

Organized Village of Kwethluk

Martin Andrew

President

P.O. Box 129

Kwethluk, AK 99621-0129

Phone: (907) 757-6714

Grant: $196,479

Activity: Public Facility Health Clinic

Tribal Government of

St. Paul Island

Richard Zacharof

President

P.O. Box 86

St. Paul Island, AK 99660

Phone: (907) 546-3221

Grant: $500,000

Activity: Housing Rehabilitation Rehab 10 or more existing homes.

[FR Doc. E6-11816 Filed 7-24-06; 8:45 am]

BILLING CODE 4210-67-P